FEDERAL HOUSING FINANCE BOARD

Sunshine Act Notice; Announcing an Open Meeting of the Board

TIME AND DATE: 10 a.m., Wednesday, February 23, 2000.

PLACE: Board Room, Second Floor, Federal Housing Finance Board, 1777 F Street, N.W., Washington, D.C. 20006.

STATUS: The entire meeting will be open to the public.

MATTERS TO BE CONSIDERED DURING PORTIONS OPEN TO THE PUBLIC:

• Interim Final Rule: Amendments to Membership Regulation and Advances Regulation.

• Office of Finance Debt Authorization.

• Interim Final Rule: Amendment to Election Regulation.

CONTACT PERSON FOR MORE INFORMATION: Elaine L. Baker, Secretary to the Board, (202) 408-2837.

William W. Ginsberg,
Managing Director.

[FR Doc. 00-4215 Filed 2-17-00; 12:55 pm]

BILLING CODE 6725-01-P